DEPARTMENT OF JUSTICE

Notice of Lodging of Settlement Agreement in In Re Owens Corning Under the Comprehensive Environmental Response Compensation and Liability Act (CERCLA)

Notice is hereby given that on May 20, 2003, a proposed Settlement Agreement was lodged with the United States Bankruptcy Court for the District of Delaware in In re Owens Corning, No. 00-03837 (Bankr. D. Del.). The Agreement between the United States on behalf of the Environmental Protection Agency, Department of Interior, and National Oceanic and Atmospheric Administration of the Department of Commerce, and Debtors Owens Corning and certain of its affiliates resolves CERCLA claims against the Debtors for the following forty hazardous waste sites, denominated as “Liquidated Sites” under the Agreement: the Amenia Town Landfill site in Amenia, New York; the Bayonne Barrel & Drum site in Newark, New Jersey; the Bessie Williams Landfill site in Copley, Ohio; the Bohaty Drum site in Medina, Ohio; the Bridgeport Rental and Oil Services (BROS) site in Logan Township, New Jersey; the Butterworth Landfill site in Grand Rapids, Michigan; the Caldwell Systems site in Caldwell County, North Carolina; the Casmalia Disposal site in Santa Barbara, California; the Chem-Dyne site in Hamilton, Ohio; the Conservation Chemical site in Gary, Indiana; the Distler Brickyard and Distler Farm sites in Hardin and Jefferson Counties, Kentucky; the Doepke-Holliday site in Johnson County, Kansas; the Double Eagle Refinery site in Oklahoma City, Oklahoma; the Erie Coatings and Chemicals, Inc. site in Erie, Michigan; the Fisher-Calo site in LaPorte County, Indiana; the French Limited, Inc. site near Crosby, Texas; the Great Lakes Container site in St. Louis, Missouri; the Gurley Pit site near Edmonson, Arkansas and the related South Eighth Street Landfill site near west Memphis, Arkansas; the Hayford Bridge Road site in St. Charles, Missouri; the Lipari Landfill site in Mantua Township, New Jersey; the Lowry Landfill site in Arapahoe County, Colorado; the Maxey Flats Disposal site in Hillsboro, Kentucky; the Memphis Container (Tri-State Drum) site in Memphis, Tennessee; the Mercer Drum site in Alexandria, Ohio; the Metro Container Drum site in Trainer, Pennsylvania; the Milt Adams/Approved Oil site in Denver, Colorado; the Operating Industries, Inc. Landfill site in Monterey Park, California; the Osage Metal Co. site in Kansas City, Kansas; Operable Unit 1 of the Peterson/Puritan, Inc. site in Lincoln and Cumberland, Rhode Island; the Petroleum Product site in Pembroke Park, Florida; the Rodale Manufacturing site in Emmaus, Pennsylvania; the Rouse Steel Drum site in Duvall, Florida; the Seymour Recycling Corp. site near Seymour, Indiana; the Sixty-Eighth Street dump in Baltimore County, Maryland; the Strausburg Landfill in Newlin Township, Pennsylvania; the Tremont City Landfill site (barrel disposal area) in German Township, Ohio; the Tulalip Landfill site near Marysville, Washington; the Western Processing Company, Inc. site in Kent, Washington; the Wheeling Disposal site in Amazonia, Missouri; and the Zellwood Drum site in Orange County, Florida.

Under the Agreement, in addition to amounts previously paid, the Debtors have agreed to allowed claims in the total amount of $1,749,206. The Agreement also contains provisions pertaining to the treatment of three other categories of sites: Debtor-Owned Sites, Work and Work Consent Decree Sites, and Additional Sites.

The Department of Justice will receive for a period of thirty (30) days from the date of this publication comments relating to the Settlement Agreement. Comments should be addressed to the Assistant Attorney General, Environment and Natural Resources Division, P.O. Box 7611, U.S. Department of Justice, Washington, DC 20044-7611, and should refer to In re Owens Corning, D.J. Ref. 90-11-2-07347. Commenters may request an opportunity for a public meeting in the affected area, in accordance with Section 7003(d) of RCRA, 42 U.S.C. 6973(d).

The Settlement Agreement may be examined at the Office of the United States Attorney for the District of Delaware, 1201 Market Street, Suite 1100, Wilmington, DE, and at the United States Environmental Protection Agency, 401 M Street, SW., Washington, DC 20460. During the public comment period, the Settlement Agreement may also be examined on the following Department of Justice Web site, http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.25 (25 cents per page reproduction cost) payable to the U.S. Treasury.

Bruce S. Gelber,
Section Chief, Environmental Enforcement Section, Environment and Natural Resources Division.

[FR Doc. 03-14099 Filed 6-4-03; 8:45 am]

BILLING CODE 4410-15-M